DEPARTMENT OF ENERGY

Federal Energy Regulatory Commission

[Project No. 14983-000]

Tomlin Energy LLC; Notice of Preliminary Permit Application Accepted for Filing and Soliciting Comments, Motions To Intervene, and Competing Applications

On March 19, 2019, Tomlin Energy LLC, filed an application for a preliminary permit, pursuant to section 4(f) of the Federal Power Act (FPA), proposing to study the feasibility of the Closed Loop Pumped Storage Project (project) to be located on the Kiamichi River, in Pushmataha County, Oklahoma. The sole purpose of a preliminary permit, if issued, is to grant the permit holder priority to file a license application during the permit term. A preliminary permit does not authorize the permit holder to perform any land-disturbing activities or otherwise enter upon lands or waters owned by others without the owners' express permission.

The proposed project would consist of the following: (1) A 2,050-foot-long, 200-foot-high earth embankment upper dam; (2) an upper reservoir with a surface area of 100 acres and a storage capacity of 10,000 acre-feet; (3) a 8,200-foot-long, 32-foot-diameter tunnel connecting the upper and lower reservoirs with a; (4) a pumping station/powerhouse containing four pump/generating units with a total capacity of 1,200 megawatts; (5) a 7,600-foot-long, 40-foot-high earth embankment lower dam with a 300-foot-wide emergency spillway and channel to the impoundment pond; (6) a lower reservoir with a surface area of 200 acres, and a storage capacity of 28,000 acre-feet; (7) two 1,000-foot-long pipes, with a pump station structure, from the lower reservoir to an impoundment pond; (8) an impoundment pond with a surface area of 30 acres, and a storage capacity of 1,800 acre-feet, which will fill with periodic overflow from the Kiamichi River; and (9) a 46-mile-long transmission line to the Tenaska Kiamichi Generation Station, then an 85-mile-long transmission line to the Luminant Valley Power Plant.

The proposed project would have an estimated average annual generation of 4,200,000 megawatt-hours.

Applicant Contact: Mr. Daniel O. Tomlin III, 4265 Kellway Circle Addison, Texas 75001; phone: (972) 239-0707.

FERC Contact: Michael Spencer, (202) 502-6093, michael.spencer@ferc.gov.

Deadline for filing comments, motions to intervene, competing applications (without notices of intent), or notices of intent to file competing applications: 60 Days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14983-000.

More information about this project, including a copy of the application, can be viewed or printed on the eLibrary link of Commission's website at http://www.ferc.gov/docs-filing/elibrary.asp. Enter the docket number (P-14983) in the docket number field to access the document. For assistance, contact FERC Online Support.

Dated: April 12, 2019.
Kimberly D. Bose,
Secretary.

[FR Doc. 2019-07747 Filed 4-17-19; 8:45 am]

BILLING CODE 6717-01-P